SOCIAL SECURITY ADMINISTRATION

20 CFR Part 422

[Docket No. SSA-2007-0009]

RIN 0960-AG36

Private Printing of Prescribed Applications, Forms, and Other Publications

AGENCY: Social Security Administration.

ACTION: Final rule.

SUMMARY: We are issuing these final rules to adopt without change the Notice of Proposed Rulemaking published on August 16, 2007 at 72 FR 45991. These final rules amend the regulation at 20 CFR 422.527, which requires a person, institution, or organization (person) to obtain the Social Security Administration's (SSA's) approval prior to reproducing, duplicating, or privately printing any SSA prescribed application or other form whether or not the person intended to charge a fee. Section 1140(a)(2)(A) of the Social Security Act (the Act) prohibits a person from charging a fee to reproduce, reprint, or distribute any SSA application, form, or publication unless he/she obtains the authorization of the Commissioner of Social Security in accordance with such regulations as he may prescribe. (42 U.S.C. 1320b-10(a)(2)(A)).

EFFECTIVE DATE: January 28, 2008.

FOR FURTHER INFORMATION CONTACT: You may contact Renee Williams, Forms Management Team, Office of Publications and Logistics Management, 6401 Security Boulevard, P.O. Box 7703, Baltimore, Maryland 21235-7703, (410) 965-4163, for information about this regulation. For information on eligibility or claiming benefits, please call our national toll-free numbers, 1-800-772-1213 or TTY 1-800-325-0778, or visit our Internet site, SSA Online, at http://www.socialsecurity.gov.

SUPPLEMENTARY INFORMATION:

Electronic Version

The electronic file of this document is available on the date of publication in the Federal Register at http://www.gpoaccess.gov/fr/index.html.

Background

The current regulation at 20 CFR 422.527 requires any person who wishes to reproduce, duplicate, or privately print any application or other form prescribed by SSA to obtain prior approval of such use from SSA. Consistent with the requirements of 20 CFR 422.527, in 1992, SSA began approving requests from the public to duplicate or privately print the Administration's applications or other forms. The requirement to obtain SSA approval applied whether or not the person intended to charge a fee.

Section 312(a) of the Social Security Independence and Program Improvement Act (SSIPA) amended the Social Security Act (the Act) and, among other things, added section 1140(a)(2)(A) to the Act. Pub. L. 103-296, Sec. 312(a) (codified as 42 U.S.C. 1320b-10(a)(2)(A)). This section prohibits any person from charging a fee to reproduce, reprint, or distribute SSA's official applications, forms, or publications unless the Commissioner grants the person specific written authorization in accordance with regulations which the Commissioner shall prescribe. These final rules will implement section 312(a) of the SSIPA by adding SSA publications to § 422.527 and by providing for SSA's prior approval of requests to reproduce, reprint, and/or distribute its applications, forms, or publications when the person intends to charge a fee. Furthermore, this final rule will implement section 312(a) by establishing the procedure any person who intends to charge a fee for reproducing, reprinting, or distributing SSA materials must follow to obtain SSA's prior approval. The requirement to obtain SSA's prior approval will apply regardless of the means the person uses to transmit the document, e.g., Internet or direct mail. These final rules will help to ensure that consumers obtain accurate and current materials and information regarding the Administration's programs. Nothing in this rule alters or affects the requirement to submit the forms and applications prescribed by SSA or otherwise permits any modifications of SSA's prescribed forms and applications.

Regulatory Procedures

Executive Order 12866

We have consulted with the Office of Management and Budget (OMB) and determined that these final rules do not meet the criteria for a significant regulatory action under Executive Order 12866, as amended.

Regulatory Flexibility Act

We certify that these final rules will not have a significant economic impact on a substantial number of small entities. Therefore, a regulatory flexibility analysis as provided in the Regulatory Flexibility Act, as amended, is not required.

Paperwork Reduction Act

In these final rules at 20 CFR 422.527, we are implementing the following provisions: (1) SSA's publications will be added to the list of items which require the Administration's pre-authorization to reprint privately; (2) SSA's authorization to reprint applications, forms, or publications will only be required if the person or company intends to charge a fee to for the reprinted item(s); and (3) the procedures a person who intends to charge a fee must follow to obtain SSA's authorization.

These final rules contain information collection requirements that need Office of Management and Budget clearance under the Paperwork Reduction Act of 1995 (PRA). As required by the PRA, SSA has submitted a clearance request for the regulation section and for form SSA-1010 (“Request to Reproduce, Duplicate, or Distribute SSA Forms, Applications, or Publications”). SSA will use Form SSA-1010 to collect the required information described in these final rules. SSA will publish the OMB number and expiration date upon approval.

As required by the PRA, SSA published a Notice of Proposed Rulemaking on August 16, 2007, at 72 FR 45991. In this Notice, SSA solicited comments under the PRA on the burden estimate; the need for the information; its practical utility; ways to enhance its quality, utility and clarity; and ways to minimize the burden on respondents, including the use of automated collection techniques or other forms of information technology. We did not receive any comments from the public.

List of Subjects in 20 CFR Part 422

Administrative practice and procedure, Organization and functions (Government agencies), Social Security, Reporting and recordkeeping requirements.

Dated: December 13, 2007.
Michael J. Astrue,
Commissioner of Social Security.

For the reasons set forth in the preamble, we are amending part 422 of chapter III of title 20 of the Code of Federal Regulations as follows:

PART 422—ORGANIZATION AND PROCEDURES

Subpart F—[Amended]

1. The authority citation for subpart F of part 422 is revised to read as follows:

Authority: Sec. 1140(a)(2)(A) of the Social Security Act. 42 U.S.C. 1320b-10(a)(2)(A) (Pub. L. 103-296, Sec. 312(a)).

2. Section 422.527 is revised to read as follows:

§ 422.527 Private printing and modification of prescribed applications, forms, and other publications.

Any person, institution, or organization wishing to reproduce, reprint, or distribute any application, form, or publication prescribed by the Administration must obtain prior approval if he or she intends to charge a fee. Requests for approval must be in writing and include the reason or need for the reproduction, reprinting, or distribution; the intended users of the application, form, or publication; the fee to be charged; any proposed modification; the proposed format; the type of machinery (e.g., printer, burster, mail handling), if any, for which the application, form, or publication is being designed; estimated printing quantity; estimated printing cost per thousand; estimated annual usage; and any other pertinent information required by the Administration. Forward all requests for prior approval to: Office of Publications Management, 6401 Security Boulevard, Baltimore, MD 21235-6401.

[FR Doc. E7-24915 Filed 12-26-07; 8:45 am]

BILLING CODE 4191-02-P